DEPARTMENT OF LABOR

Advisory Committee on Increasing Competitive Integrated Employment for Individuals With Disabilities

AGENCY: U.S. Department of Labor, Office of Disability Employment Policy.

ACTION: Solicitation for Nominations To Serve on the Advisory Committee on Increasing Competitive Integrated Employment for Individuals with Disabilities.

SUMMARY: The Secretary of Labor (Secretary) invites interested parties to submit nominations for individuals to serve on the Advisory Committee on Increasing Competitive Integrated Employment for Individuals with Disabilities.

SUPPLEMENTARY INFORMATION: The Advisory Committee on Increasing Competitive Integrated Employment for Individuals with Disabilities (the Committee) is mandated by section 609 of the Rehabilitation Act of 1973, as amended by section 461 of the Workforce Innovation and Opportunity Act (WIOA). It is established by the Secretary of Labor and in accordance with the provision of the Federal Advisory Committee Act (FACA), as amended, 5 U.S.C. App. 2. The purpose of the Committee is to study and prepare findings, conclusions and recommendations for the Secretary of Labor on (1) ways to increase employment opportunities for individuals with intellectual or developmental disabilities or other individuals with significant disabilities in competitive, integrated employment; (2) the use of the certificate program carried out under section 14(c) of the Fair Labor Standards Act of 1938 (29 U.S.C. 214(c)); and (3) ways to improve oversight of the use of such certificates.

The Committee shall consist of seven federal members: The Assistant Secretary of Disability Employment Policy, the Assistant Secretary for Employment and Training Administration, and the Administrator of the Wage and Hour Division of the Department of Labor; the Commissioner of the Administration on Intellectual and Developmental Disabilities; the Director of the Centers for Medicare and Medicaid Services; the Commissioner of Social Security; and the Commissioner of the Rehabilitation Services Administration.

The Committee shall further consist of approximately twelve representative members, appointed by the Secretary, with at least one representative from each of the following constituencies:

• Self-advocates for individuals with intellectual or developmental disabilities;

• Providers of employment services, including those that employ individuals with intellectual or developmental disabilities in competitive integrated employment;

• Representatives of national disabilities advocacy organizations for adults with intellectual or developmental disabilities;

• Experts with a background in academia or research and expertise in employment and wage policy issues for individuals with intellectual or developmental disabilities;

• Representatives from the employer community or national employer organizations; and

• Other individuals or representatives or organizations with expertise on increasing opportunities for competitive integrated employment for individuals with disabilities.

The Committee is requires to meet no less than eight times. It is also required to submit an interim report to the Secretary of Labor; the Senate Committee on Health, Education, Labor and Pensions; and the House Committee on Education and the Workforce within one year of the Committee's establishment. A final report must be submitted to the same entities no later than two years from the Committee establishment date. The Committee terminates one day after the submission of the final report.

Nomination Process: Any interested person or organization may nominate one or more qualified individuals for membership. If you would like to nominate an individual or yourself for appointment to the Committee, please submit the Department of Labor's Committee address, IntegratedCompetitiveEmployment@dol.gov, the following information:

• A copy of the nominee's resume;

• A cover letter that provides your reason(s) for nominating the individual, the constituency area that they represent (as outlined above), and their particular expertise for contributing to national policy discussions regarding increasing integrated, competitive employment for youth and adults with significant disabilities; and

• Contact information for the nominee (name, title, business address, business phone, fax number, and business email address).

In addition, the cover letter must state that the nominee (if nominating someone other than oneself) has agreed to be nominated and is willing to serve on the Committee. Nominees will be appointed based on the demonstrated qualifications, professional experience, and demonstrated knowledge of issues related to the purpose and scope of the Committee.

The Secretary shall appoint members for the full two-year life of the Committee. Any member appointed to fill a vacancy occurring prior to the expiration of the Committee shall be appointed for the remainder of such term.

Members will serve without compensation. However, members may each receive reimbursement for travel expenses for attending Committee meetings, including per diem in lieu of subsistence, as authorized by the Federal travel regulations.

DATES: Nominations for individuals to serve on the Committee must be submitted (postmarked, if sending by mail; submitted electronically; or received, if hand delivered) by October 14, 2014.

ADDRESSES: You may submit nominations, including attachments, by any of the following methods:

• Electronically: Send to: INSERT EMAIL ADDRESS FOR COMMITTEE (specify in the email subject line, “Advisory Committee on Increasing Competitive, Integrated Employment”)

• Mail, express delivery, hand delivery, messenger, or courier service: Submit one copy of the documents listed above to the following address: U.S. Department of Labor, Office of Disability Employment Policy, Advisory Commission on Increasing Competitive Integrated Employment, Room S-1303, 200 Constitution Ave. NW., Washington, DC 20210

For questions, contact Christopher Button, Office of Disability Employment Policy, at button.christopher@dol.gov.

Dated: September 8, 2014.
Christopher P. Lu,
Deputy Secretary of Labor.

[FR Doc. 2014-21834 Filed 9-11-14; 8:45 am]

BILLING CODE 4510-23-P